DEPARTMENT OF HEALTH AND HUMAN SERVICES

Administration for Children and Families

[Program Announcement No. ACF-HHS-ORR-07-28-2003]

ORR Annoucement for Services to Recently Arrived Refugees

AGENCY: Office of Refugee Resettlement (ORR) Administration for Children and Families, HHS.

ACTION: Notice of an additional closing date for the ORR Standing Announcement for Services to Recently Arrived Refugees: Category One—Preferred Communities, published in the Federal Register on May 9, 2001 (66 FR 23705).

CFDA #: The Catalog of Federal Domestic Assistance is 93.576.

SUMMARY: The current Standing Announcement for Services to Recently Arrived Refugees posted on May 9, 2001 includes an application deadline of February 28. This notice announces an additional, one-time closing date for Category One of this standing announcement.

Eligibility: As specified in the announcement posted on May 9, 2001, eligible applicants are agencies that currently resettle refugees under a Reception and Placement Cooperative Agreement with the Department of State or with the Department of Justice.

Summary: For the past two years, refugee arrival numbers have been low, and agency staff has been reduced. With the arrival of the Somali Bantu, resettlement staff will be presented with many challenges, and local services will need to be enhanced. Through this additional closing date, ORR intends to provide resources to meet the needs of the Somali Bantu.

DATES: The closing date for applications is September 12, 2003. Please note that all applications must be received (as opposed to postmarked) in ACF by this date or they will be considered late. Due to delays in mail delivery to Federal offices, we encourage applicants to use overnight courier service to ensure prompt delivery and receipt.

Announcement Availability: This program announcement and the application materials are available from Sue Benjamin, Office of Refugee Resettlement (ORR), 370 L'Enfant Promenade, SW. 8th Floor West, Washington, DC 20447 and from the ACF Web site at: http://www.acf.hhs.gov/programs/orr.

Funding Availability: ORR expects to award $2.5 million in discretionary social service funds for the Somali Bantu (first tier) resettlement sites.

FOR FURTHER INFORMATION CONTACT: Sue Benjamin, Office of Refugee Resettlement, telephone number (202-401-4851) or e-mail at SBenjamin@acf.hhs.gov or call Daphne Weeden, Grants Officer, telephone number (202-260-5980) or e-mail at paqueries-ogm@acf.hhs.gov.

Dated: August 8, 2003.
Nguyen Van Hanh,
Director, Office of Refugee Resettlement.

[FR Doc. 03-20592 Filed 8-12-03; 8:45 am]

BILLING CODE 4184-01-M